COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete products and a service from the Procurement List that was previously furnished by nonprofit agencies employing persons who are blind or have other severe disabilities.

DATES: Comments Must Be Received on or Before: 5/22/2016.

ADDRESSES: Committee for Purchase From People Who Are Blind or Severely Disabled, 1401 S. Clark Street, Suite 715, Arlington, Virginia, 22202-4149.

For Further Information Or To Submit Comments Contact: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following products and service are proposed for deletion from the Procurement List:

Products

NSN(s)—Product Name(s):

MR 3206—Goody Hair Care Products—Stay Put Headbands sports 4ct

MR 3210—Goody Hair Care Products—Ouchless Elastic Long Thin

MR 3237—Goody Hair Care Products—Bobby Pin Box w/magnetic Top black

MR 3238—Goody Hair Care Products—Bobby Pin Box w/magnetic Top brown

MR 3244—Goody Hair Care Products—Comb, 7in Utility

Mandatory Source(s) of Supply: Association for Vision Rehabilitation and Employment, Inc., Binghamton, NY

Contracting Activity: Defense Commissary Agency

NSN(s)—Product Name(s): 7195-01-567-9518—Bulletin Board, Fabric, 48″ x 36″, Plastic Frame 7195-01-484-0015—Bulletin Board, Granite Finish, 48″ x 36″, Aluminum Frame

Mandatory Source(s) of Supply: The Lighthouse for the Blind, Inc. (Seattle Lighthouse), Seattle, WA

Contracting Activities: Department of Veterans Affairs, NAC, General Services Administration, FSS Household and Industrial Furniture, Arlington, VA

NSN(s)—Product Name(s): 8455-01-591-5248—Lapel Pin, Navy Retired, Dual Flag

Mandatory Source(s) of Supply: Industries for the Blind, Inc., West Allis, WI

Contracting Activity: Defense Logistics Agency Troop Support

NSN(s)—Product Name(s): 7105-00-935-1845—Cover, Folding Cot

Mandatory Source(s) of Supply: Cambria County Association for the Blind and Handicapped, Johnstown, PA

Contracting Activity: Defense Logistics Agency Troop Support

NSN(s)—Product Name(s): 1055-01-141-5205—Webbing

Mandatory Source(s) of Supply: Huntsville Rehabilitation Foundation, Huntsville, AL

Contracting Activity: Defense Logistics Agency Land and Maritime

Service

Service Type: Document Destruction

Mandatory for: Internal Revenue Service: St. Paul Headquarters, Minneapolis, MN Mandatory Source(s) of Supply: AccessAbility, Inc., Minneapolis, MN

Contracting Activity: Dept. of the Treasury, Washington, DC

Barry S. Lineback,
Director, Business Operations.

[FR Doc. 2016-09385 Filed 4-21-16; 8:45 am]

BILLING CODE 6353-01-P